FEDERAL COMMUNICATIONS COMMISSION

[WT Docket No. 02-46; DA 02-2666]

Report on Technical and Operational Wireless E911 Issues

AGENCY: Federal Communications Commission.

ACTION: Notice; comment invited.

SUMMARY: The Commission seeks comment on a Report on Technical and Operational Issues Impacting the Provision of Wireless Enhanced 911 Services by Dale N. Hatfield (the Hatfield Report). The Commission will use the information in the Hatfield Report and in the comments it receives to assess enhanced emergency 911 services deployment issues and consider methods to overcome any obstacles and accelerate deployment.

DATES: Comments are due on or before November 15, 2002, and reply comments are due on or before December 3, 2002.

ADDRESSES: All filings must be addressed to the Commission's Secretary, Marlene H. Dortch, Office of the Secretary, Federal Communications Commission, 445 12th Street, SW., Washington, DC 20554. A copy should also be sent to Jennifer Salhus, Room 3A-131, Federal Communications Commission, 445 12th Street, SW., Washington, DC 20554.

FOR FURTHER INFORMATION CONTACT: Jennifer Salhus and Won Kim, Attorney, (202) 418-1310.

SUPPLEMENTARY INFORMATION:

1. The Wireless Telecommunications Bureau invites the public to comment on a Report on Technical and Operational Issues Impacting the Provision of Wireless Enhanced 911 Services by Dale N. Hatfield filed on October 15, 2002 (the Hatfield Report). The Commission will use the information in the Hatfield Report and in the comments it receives to assess enhanced emergency 911 services (E911) deployment issues and consider methods to overcome any obstacles and accelerate deployment.

2. In a series of orders beginning in 1996, the Commission required wireless carriers to provide both basic and enhanced emergency 911 services. The Commission has recognized that despite substantial progress to date in the development of the technologies to support E911 location capability, much remains to be done to achieve the Commission's fundamental goal of having wireless E911 location capabilities deployed throughout the country.

3. In the fall of 2001, the Commission announced that Dale N. Hatfield, former Chief of the Commission's Office of Engineering and Technology, would conduct an inquiry into technical and operational issues with wireless E911 deployment.

4. On March 5, 2002, the Wireless Telecommunications Bureau (the Bureau) released a Public Notice announcing the details of the inquiry. The Bureau noted that the purpose of the inquiry was to obtain an expert, informed, unbiased assessment of the technical and operational issues that affect wireless E911 deployment. The Bureau stated that information would be gathered and evaluated from many sources, including from technology vendors, network equipment and handset manufacturers, carriers, the public safety community, and other sources concerning technology standards issues, development of hardware and software, and supply conditions. The inquiry was also intended to address the provisioning by Local Exchange Carriers (LECs) of the facilities and equipment necessary to receive and utilize E911 data elements. The Bureau indicated that the focus of the inquiry was on the future of the wireless E911 deployment, including obstacles to deployment and steps that might be taken to overcome or minimize them. The Bureau noted that, at the conclusion of his inquiry, Mr. Hatfield would prepare a report of his findings that would be released for public comment.

5. On October 15, 2002, Mr. Hatfield filed a report conveying the results of his inquiry. In his report, Mr. Hatfield notes initially the importance of wireless E911 for emergency services, the progress that has been made in wireless E911 implementation over the past several years, especially in the development and selection of technologies for obtaining location information, and the critical role LECs play in implementation of wireless E911. Mr. Hatfield makes several findings about current E911 implementation efforts and offers a number of recommendations to address some of the principal issues and concerns raised during the course of the inquiry.

6. Mr. Hatfield recommends that a “National 911 Program Office” be established within the proposed Department of Homeland Security to coordinate with local and state public safety first responders and other stakeholders.

7. Because of the importance of E911 to the safety of life and property and to homeland security, Mr. Hatfield recommends that the Commission maintain or even increase its oversight of the rollout of wireless E911 services in the U.S. over the next several years.

8. Mr. Hatfield recommends that the Commission:

—Establish an advisory committee to address the technical framework for the further development and evolution of E911 systems and services including technical standards;

—Continue to urge the creation of organizations at the state, regional, and local levels of government to coordinate the rollout of wireless E911 services; and

—Encourage the creation of a national level clearinghouse to collect, store, and disseminate status information on the rollout of wireless E911.

9. Mr. Hatfield recommends that the Commission actively coordinate with and support the U.S. Department of Transportation's Wireless E911 initiative and other efforts to educate state and local governments and PSAPs on the benefits and importance of wireless E911 services. He also recommends that the Commission continue to support the efforts of the Emergency Services Interconnection Forum (ESIF) to address the issue of PSAP readiness.

10. Mr. Hatfield recommends that the Commission work closely with individual and state regulatory commissions and their association, the National Association of Regulatory Utility Commissioners (NARUC), in resolving issues relating to LEC cost recovery and pricing. In addition, Mr. Hatfield recommends that the Commission urge stakeholders to develop industry-wide procedures for testing and certification of wireless E911 to ensure that they meet the accuracy requirements specified in the Commission's rules.

11. Finally, Mr. Hatfield makes recommendations about several other issues, including the need for end-to-end testing of wireless E911 systems, conveying confidence/uncertainty information associated with position determination and routing choices, accommodating new requirements and requirement “creep,” the impact of future technological developments, consumer expectations, the implications of commercial location-based services, and the need for an adaptable regulatory approach. A copy of the report can be found at: http://gullfoss2.fcc.gov/prod/ecfs/retrieve.cgi?native_or_ pdf=pdf&id_document=6513296239.

12. Interested parties may file comments on the report on or before November 15, 2002, and reply comments on or before December 3, 2002. Comments may be filed using the Commission's Electronic Comment Filing System (ECFS) or by filing paper copies.

13. This is a “permit but disclose” proceeding pursuant to section 1206 of the Commission's Rules. Presentations to or from Commission decision-making personnel are permissible provided that ex parte presentations are disclosed pursuant to 47 CFR 1.1206(b). Comments filed through the ECFS can be sent as an electronic file via the Internet to http://www.fcc.gov/e-file/ecfs.html. Generally, only one copy of an electronic submission must be filed. If multiple docket or rulemaking numbers appear in the caption of this proceeding, however, commenters must transmit one electronic copy of the filing to each docket or rulemaking number referenced in the caption. In completing the transmittal screen, commenters should include their full name, Postal Service mailing address, and the applicable docket or rulemaking number. Parties may also submit an electronic copy by Internet e-mail. To get filing instructions for e-mail comments, commenters should send an e-mail to ecfs@fcc.gov, and should include the following words in the body of the message: “get form <your email address>.” A sample form and directions will be sent in reply. Commenters also may obtain a copy of the ASCII Electronic Transmittal Form (FORM-ET) at http://www.fcc.gov/e-file/email.html.

14. Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission. A copy should also be sent to Jennifer Salhus, 445 12th Street, SW., Room 3-A131, Washington, DC 20554.

15. Regardless of whether parties choose to file electronically or by paper, parties should also file one copy of any documents filed in this docket with the Commission's copy contractor, Qualex International, Portals II, 445 12th Street SW., CY-B402, Washington, DC 20554 (telephone (202) 863-2893; facsimile (202) 863-2898) or via e-mail at qualexint@aol.com. In addition, one copy of each submission must be filed with the Chief, Policy Division, Wireless Telecommunications Bureau, 445 12th Street, SW., Washington, DC 20554. Documents filed in this proceeding will be available for public inspection during regular business hours in the Commission's Reference Information Center, 445 12th Street, SW., Washington, DC 20554, and will be placed on the Commission's Internet site.

Federal Communications Commission.
James D. Schlichting,
Deputy Chief, Wireless Telecommunications Bureau.

[FR Doc. 02-27647 Filed 10-30-02; 8:45 am]

BILLING CODE 6712-01-P